NUCLEAR REGULATORY COMMISSION

[Docket No. 40-8964]

Rio Algom Mining Corp.

AGENCY: Nuclear Regulatory Commission.

ACTION: Final finding of no significant impact; Notice of opportunity for hearing.

SUMMARY: The U.S. Nuclear Regulatory Commission (NRC) proposes to renew NRC Source Material License SUA-1548 to authorize the licensee, Rio Algom Mining Corporation (RAMC), to continue commercial operations of its in situ leach (ISL) Rio Algom Smith Ranch Uranium Recovery Project in Converse County, Wyoming. This license currently authorizes RAMC to receive, acquire, possess, and transfer uranium at the Rio Algom Smith Ranch Project, which is located approximately 17 miles (27 Kilometers) Northeast of Glenrock, Wyoming. An Environmental Assessment (EA) was performed by the NRC staff in support of its review of RAMC renewal request, in accordance with the requirements of 10 CFR part 51. The conclusion of the Environmental Assessment is a Finding of No Significant Impact (FONSI) for the proposed licensing action.

FOR FURTHER INFORMATION CONTACT: Mr. John H. Lusher, Fuel Cycle Licensing Branch, Division of Fuel Cycle Safety and Safeguards, Office of Nuclear Material Safety and Safeguards, U.S. Nuclear Regulatory Commission, Mail Stop T8-A33, Washington, DC 20555. Telephone 301/415-7694.

SUPPLEMENTARY INFORMATION:

Background

At the Rio Algom Smith Ranch Facility, ISL uranium recovery method involves: (1) The injection of native groundwater, with added sodium carbonate/bicarbonate and oxygen or hydrogen peroxide, into uranium-bearing orebody through injection wells; (2) the chemical mobilization of the uranium through oxidation and then complexation with the carbonate species; and (3) the extraction of the uranium-bearing solution from the subsurface through a pattern of pumping wells. The uranium is separated from the leach solution by conventional ion exchange methods in the processing facility. The resulting uranium-poor solution is recharged with carbonate and oxygen and returned to the leaching zone for additional uranium recovery. This cycle continues until the ore zone is depleted or recovery of uranium is no longer economically feasible.

The recovered uranium solution is processed further by using ammonia or hydrogen peroxide to precipitate the uranium into a slurry. The resulting slurry is thickened by gravity settling, and then washed and de-watered in a filter press to about 50 percent solids. The filter press solids (cake) are then dried in a natural gas heated oil vacuum dryer, to produce uranium oxide, which is commonly known as “yellowcake.” The dried yellowcake is packaged in 55-gallon (208-liter) steel drums for storage and eventual shipment to a fuel processing facility.

RAMC conducts uranium recovery operations within designated areas (wellfield units) of the Rio Algom Smith Ranch site. These wellfield units consist of about 50 acres (20 hectars) in size. A number of well patterns are installed in each wellfield unit, with each pattern typically including four injection wells laid out in a roughly rectangular shape and one centrally-located pumping (production) well. Currently, RAMC is conducting uranium recovery operations in three wellfield units.

Summary of the Environmental Assessment

The NRC staff performed an appraisal of the environmental impacts associated with the continued operation of the Rio Algom Smith Ranch ISL facility, in accordance with 10 CFR part 51, Licensing and Regulatory Policy Procedures for Environmental Protection. In conducting its appraisal, the NRC staff considered the following information: (1) RAMC's license renewal application, as amended; (2) previous environmental evaluations of the RAMC facility; (3) RAMC's amendment request submitted subsequent to its renewal application, and NRC staff approval of such request; (4) data contained in required environmental monitoring reports; (5) results of NRC staff site visits and inspections of the RAMC facility; and (6) consultations with the U.S. Fish and Wildlife Service, the U.S. Bureau of Land Management, and the Wyoming State Historic Preservation Officer. The results of the staff's appraisal are documented in an Environmental Assessment. The safety aspects for the continued operation are discussed separately in a Safety Evaluation Report (SER).

The license renewal would authorize RAMC to continue operating the Rio Algom Smith Ranch ISL facility, such that the plant and satellite facilities throughput does not exceed a flow rate of 12,000 gallons (45,420 liters) per minute, exclusive of the flow involved in restoring the depleted wellfield units. Annual yellowcake production will not be authorized to exceed 3.5 million pounds (1,587,565 kilograms).

All conditions in the renewal license and commitments presented in the renewal application are subject to NRC inspection. Violation of the license may result in enforcement action.

Conclusions

The NRC staff has re-examined actual and potential impacts associated with continued commercial operation of the Rio Algom Smith Ranch ISL facility, and has determined that the renewal of Source Material License SUA-1548 will: (1) Be consistent with requirements of 10 CFR Part 40, (2) not be inimical to the public health and safety; and (3) not have long-term detrimental impacts on the environment. The following statements summarize the conclusions resulting from the staff's environmental assessment, and support the FONSI:

1. The proposed ground water monitoring program is sufficient to detect excursions (vertical and horizontal) of recovery solutions. Furthermore, aquifer testing and previous operations indicate that the production zone is adequately confined, thereby assuring hydrological control of recovery solutions;

2. Liquid process waste will be disposed in accordance with approved waste disposal options. Monitoring programs are in place to ensure appropriate operation of the deep disposal wells and to detect potential leakage from the evaporation ponds;

3. An acceptable environmental and effluent monitoring program is in place to monitor effluent releases and to detect if applicable regulatory limits are exceeded. Radiological effluents from facility operation have been and are expected to remain below the regulatory limits;

4. All radioactive waste generated by facility operations will be disposed offsite at a licensed 11e.(2) byproduct disposal site;

5. Groundwater impacted by recovery operations will be restored to baseline conditions on a wellfield unit average, as a primary goal. If baseline conditions cannot be reasonably achieved, the R&D operations have demonstrated that groundwater can be restored to applicable class-of-use standards; and

6. Because the staff has determined that there will be no significant impacts associated with approval of the license renewal, there can be no disproportionally high and adverse effects or impacts on minority and low-income populations. Consequently, further evaluation of Environmental Justice concerns, as outlined in Executive Order 12898 and NRC's Office of Nuclear Material Safety and Safeguards Policy and Procedures Letter 1-50, Revision 1, is not warranted.

Alternatives to the Proposed Action

The proposed action is to renew NRC Source Material License SUA-1548, for continued operation of the Rio Algom Smith Ranch ISL facility as requested by RAMC. Therefore, the principal alternatives available to NRC are to:

(1) Renew the license with such conditions as are considered necessary or appropriate to protect public health and safety and the environment; or

(2) Renew the license with such conditions as are considered necessary or appropriate to protect public health and safety and the environment, but not allow RAMC to expand its operations beyond those previously approved; or

(3) Deny the renewal of the license.

Based on its review, the NRC staff has concluded that the environmental impacts associated with the proposed action do not warrant either the limiting of RAMC's future operations or the denial of the license renewal. Additionally, in the SER prepared for this action, the staff has reviewed the licensee's proposed action with respect to the criteria for license issuance, specified in 10 CFR part 40, § 40.32, and has no basis for denial of the proposed action. Therefore, the staff considers that Alternative 1 is the appropriate alternative for selection.

Finding of No Significant Impact

The NRC staff has prepared an EA for the proposed renewal of NRC Source Material License SUA-1548, On the basis of this assessment, the NRC staff has concluded that the environmental impacts that may result from the proposed action would not be significant, and therefore, preparation of an Environmental Impact Statement is not warranted.

The EA and other documents related to this proposed action are available for public inspection and copying at the NRC Public Document Room, One White Flint North, 11555 Rockville Pike, Rockville, MD 20852.

Notice of Opportunity for Hearing

The Commission hereby provides notice that this is a proceeding on an application for a licensing action falling within the scope of 10 CFR part 2, subpart L, “Informal Hearing Procedures for Adjudications in Materials and Operators Licensing Proceedings,” of the Commission's Rules of Practice for Domestic Licensing Proceedings and Issuance of Orders. Pursuant to § 2.1205(a), any person whose interest may be affected by this proceeding may file a request for a hearing. In accordance with § 2.1205(d), a request for a hearing must be filed within thirty (30) days from the date of publication of this Federal Register notice. The request for a hearing must be filed with the Office of the Secretary either:

(1) By delivery to the Rulemakings and Adjudications Staff of the Office of the Secretary at One White Flint North, 11555 Rockville Pike, Rockville, MD 20852; or (2) By mail or telegram addressed to the Secretary, U.S. Nuclear Regulatory Commission, Washington, DC 20555, Attention: Rulemakings and Adjudications Staff. In accordance with 10 CFR 2.1205(f), each request for a hearing must also be served, by delivering it personally or by mail to:

(1) The applicant, Rio Algom Mining Corporation, 6305 Waterford Blvd, Suite 325, Oklahoma City, OK 73118;

(2) The NRC staff, by delivery to the General Consel, One White Flint North, 11555 Rockville Pike, Rockville, MD 20852, or

(3) By mail addressed to the Executive Director for Operations, U.S. Nuclear Regulatory Commission, Washington, DC 20555.

In addition to meeting other applicable requirements of 10 CFR part 2 of the Commission's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

Any hearing that is requested and granted will be held in accordance with the Commission's “Informal Hearing Procedures for Adjudications in Materials and Operator Licensing Proceedings” in 10 CFR part 2, subpart L.

Dated at Rockville, Maryland, this 30th day of April 2001.
For the Nuclear Regulatory Commission
Daniel M. Gillen,
Acting Chief, Fuel Cycle Licensing Branch, Division of Fuel Cycle Safety and Safeguards, Office of Nuclear Material Safety and Safeguards.

[FR Doc. 01-11278 Filed 5-3-01; 8:45 am]

BILLING CODE 7590-01-P